DEPARTMENT OF ENERGY

Federal Energy Regulatory Commission

Combined Notice of Filings #1

Take notice that the Commission received the following electric rate filings:

Docket Numbers: ER19-765-000; ER19-766-000; ER19-767-000.

Applicants: Gulf Power Company.

Description: Amendment to January 4, 2019 Gulf Power Company tariff filings.

Filed Date: 2/6/19.

Accession Number: 20190206-5150.

Comments Due: 5 p.m. ET 2/27/19.

Docket Numbers: ER19-361-000.

Applicants: Midcontinent Independent System Operator, Inc., International Transmission Company, Michigan Electric Transmission Company, ITC Midwest LLC.

Description: Report Filing: 2019-02-07_2nd Refund Report for ITC Companies re Transco Adder (EL18-140) to be effective N/A.

Filed Date: 2/7/19.

Accession Number: 20190207-5086.

Comments Due: 5 p.m. ET 2/28/19.

Docket Numbers: ER19-998-000.

Applicants: Alabama Power Company.

Description: § 205(d) Rate Filing: OPC IA Amendment Filing (to Remove Gulf) to be effective 1/1/2019.

Filed Date: 2/6/19.

Accession Number: 20190206-5098.

Comments Due: 5 p.m. ET 2/27/19.

Docket Numbers: ER19-999-000.

Applicants: Alabama Power Company.

Description: § 205(d) Rate Filing: CED Solar Development (Timberland Solar) LGIA Amendment Filing to be effective 1/1/2019.

Filed Date: 2/6/19.

Accession Number: 20190206-5100.

Comments Due: 5 p.m. ET 2/27/19.

Docket Numbers: ER19-1000-000.

Applicants: Alabama Power Company.

Description: § 205(d) Rate Filing: TVA Interchange Agreement Amendment Filing to be effective 1/1/2019.

Filed Date: 2/6/19.

Accession Number: 20190206-5129.

Comments Due: 5 p.m. ET 2/27/19.

Docket Numbers: ER19-1001-000.

Applicants: Georgia Power Company.

Description: § 205(d) Rate Filing: TVA Interchange Agreement Amendment Filing to be effective 1/1/2019.

Filed Date: 2/6/19.

Accession Number: 20190206-5135.

Comments Due: 5 p.m. ET 2/27/19.

Docket Numbers: ER19-1002-000.

Applicants: Mississippi Power Company.

Description: § 205(d) Rate Filing: TVA Interchange Agreement Amendment Filing to be effective 1/1/2019.

Filed Date: 2/6/19.

Accession Number: 20190206-5136.

Comments Due: 5 p.m. ET 2/27/19.

Docket Numbers: ER19-1003-000.

Applicants: Crystal Lake Wind Energy II, LLC.

Description: Baseline eTariff Filing: Crystal Lake Wind Energy II, LLC Application for Market-Based Rates to be effective 4/7/2019.

Filed Date: 2/6/19.

Accession Number: 20190206-5137.

Comments Due: 5 p.m. ET 2/27/19.

Docket Numbers: ER19-1004-000.

Applicants: Alabama Power Company.

Description: § 205(d) Rate Filing: JEA Interchange Contract Amendment Filing to be effective 1/1/2019.

Filed Date: 2/7/19.

Accession Number: 20190207-5001.

Comments Due: 5 p.m. ET 2/28/19.

Docket Numbers: ER19-1005-000.

Applicants: Georgia Power Company.

Description: § 205(d) Rate Filing: JEA Interchange Contract Amendment Filing to be effective 1/1/2019.

Filed Date: 2/7/19.

Accession Number: 20190207-5002.

Comments Due: 5 p.m. ET 2/28/19.

Docket Numbers: ER19-1006-000.

Applicants: Mississippi Power Company.

Description: § 205(d) Rate Filing: JEA Interchange Contract Amendment Filing to be effective 1/1/2019.

Filed Date: 2/7/19.

Accession Number: 20190207-5003.

Comments Due: 5 p.m. ET 2/28/19.

Docket Numbers: ER19-1007-000.

Applicants: FirstEnergy Solutions Corp.

Description: § 205(d) Rate Filing: Amendment to Reactive Service Rate Schedule FERC No. 1 and Request for Waiver to be effective 2/5/2019.

Filed Date: 2/7/19.

Accession Number: 20190207-5087.

Comments Due: 5 p.m. ET 2/28/19.

Docket Numbers: ER19-1008-000.

Applicants: Southern California Edison Company.

Description: § 205(d) Rate Filing: GIA & Distrib Serv Agmt Strata Saticoy, LLC Saticoy Energy Storage to be effective 2/8/2019.

Filed Date: 2/7/19.

Accession Number: 20190207-5088.

Comments Due: 5 p.m. ET 2/28/19.

Docket Numbers: ER19-1009-000.

Applicants: Revere Power, LLC.

Description: Baseline eTariff Filing: MBR Application to be effective 12/31/9998.

Filed Date: 2/7/19.

Accession Number: 20190207-5089.

Comments Due: 5 p.m. ET 2/28/19.

Docket Numbers: ER19-1010-000.

Applicants: Midcontinent Independent System Operator, Inc.

Description: § 205(d) Rate Filing: 2019-02-07_SA 3235 ITC Midwest-Duane Arnold Solar GIA (J504) to be effective 1/24/2019.

Filed Date: 2/7/19.

Accession Number: 20190207-5099.

Comments Due: 5 p.m. ET 2/28/19.

Docket Numbers: ER19-1011-000.

Applicants: PJM Interconnection, L.L.C.

Description: Tariff Cancellation: Notice of Cancellation of ICSA/SA No. 3789; Queue No. T16 to be effective 12/21/2018.

Filed Date: 2/7/19.

Accession Number: 20190207-5176.

Comments Due: 5 p.m. ET 2/28/19.

Docket Numbers: ER19-1012-000.

Applicants: PJM Interconnection, L.L.C.

Description: § 205(d) Rate Filing: Revisions to the OATT and RAA re Price Responsive Demand Modifications to be effective 4/9/2019.

Filed Date: 2/7/19.

Accession Number: 20190207-5177.

Comments Due: 5 p.m. ET 2/28/19.

Docket Numbers: ER19-1013-000.

Applicants: California Independent System Operator Corporation.

Description: § 205(d) Rate Filing: 2019-02-07 Specify Minimum Requirements for Interconnection Requests Amendment to be effective 4/1/2019.

Filed Date: 2/7/19.

Accession Number: 20190207-5178.

Comments Due: 5 p.m. ET 2/28/19.

Docket Numbers: ER19-1014-000.

Applicants: Midcontinent Independent System Operator, Inc., Ameren Illinois Company.

Description: § 205(d) Rate Filing: 2019-02-07_SA 3244 Ameren Illinois-Marathon Petroleum CPA (Heath Substation) to be effective 1/8/2019.

Filed Date: 2/7/19.

Accession Number: 20190207-5179.

Comments Due: 5 p.m. ET 2/28/19.

Take notice that the Commission received the following electric securities filings:

Docket Numbers: ES19-18-000.

Applicants: Northern Maine Independent System Administrator, Inc.

Description: Application under Section 204 of the Federal Power Act for Authorization to Issue Securities of the Northern Maine Independent System Administrator, Inc.

Filed Date: 2/6/19.

Accession Number: 20190206-5139.

Comments Due: 5 p.m. ET 2/27/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 7, 2019.
Nathaniel J. Davis, Sr.,
Deputy Secretary.

[FR Doc. 2019-02149 Filed 2-12-19; 8:45 am]

BILLING CODE 6717-01-P